CONSUMER PRODUCT SAFETY COMMISSION

Notification of Request for Extension of Approval of Information Collection Requirements —Recordkeeping Requirements Under the Safety Regulations for Non-Full-Size Cribs

AGENCY: Consumer Product Safety Commission.

ACTION: Notice.

SUMMARY: In the May 18, 2004, Federal Register (69 FR 28124), the Consumer Product Safety Commission published a notice in accordance with provisions of the Paperwork Reduction Act of 1995 (44 U.S.C. chapter 35) to announce the agency's intention to seek an extension of approval of information collection requirements in the safety regulations for non-full-size cribs. 16 CFR 1500.18(a)(14) and part 1509. No comments were received on that notice. The Commission now announces that it has submitted to the Office of Management and Budget a request for extension of approval of that collection of information.

These regulations were issued to reduce hazards of strangulation, suffocation, pinching, bruising, laceration, and other injuries associated with non-full-size cribs. The regulations prescribe performance, design, and labeling requirements for non-full-size cribs. They also require manufacturers and importers of those products to maintain sales records for a period of three years after the manufacture or importation of non-full-size cribs. If any non-full-size cribs subject to provisions of 16 CFR 1500.18(a)(14) and part 1509 fail to comply in a manner severe enough to warrant a recall, the required records can be used by the manufacturer or importer and by the Commission to identify those persons and firms who should be notified of the recall.

Additional Information About the Request for Extension of Approval of Information Collection Requirements

Agency address: Consumer Product Safety Commission, Washington, DC 20207.

Title of information collection: Recordkeeping Requirements Under the Safety Regulations for Non-Full-Size Baby Cribs, 16 CFR 1509.12.

Type of request: Extension of approval.

Frequency of collection: Varies, depending upon volume of products manufactured, imported, or sold.

General description of respondents: Manufacturers and importers of non-full-size cribs.

Estimated Number of respondents: 16.

Estimated average number of responses per respondent: 1 per year.

Estimated number of responses for all respondents: 16 per year.

Estimated number of hours per response: 5.

Estimated number of hours for all respondents: 80 per year.

Estimated cost of collection for all respondents: $1,958.

Comments: Comments on this request for extension of approval of information collection requirements should be submitted by September 3, 2004, to (1) Office of Information and Regulatory Affairs, Attn: OMB Desk Officer for CPSC, Office of Management and Budget, Washington, DC 20503; telephone: (202) 395-7340, and (2) the Office of the Secretary, Consumer Product Safety Commission, Washington, DC 20207. Comments may also be sent to the Office of the Secretary by facsimile at (301) 504-0127 or by e-mail at cpsc-os@cpsc.gov.

Copies of this request for an extension of an information collection requirement are available from Linda L. Glatz, Office of Planning and Evaluation, Consumer Product Safety Commission, Washington, DC 20207; telephone: (301) 504-7671; or by e-mail to lglatz@cpsc.gov.

Dated: July 30, 2004.
Todd A. Stevenson,
Secretary, U.S. Consumer Product Safety Commission.

[FR Doc. 04-17804 Filed 8-3-04; 8:45 am]

BILLING CODE 6355-01-P